DEPARTMENT OF ENERGY

Federal Energy Regulatory Commission

[Project No. 12966-001]

Lake Powell Hydroelectric System; Notice of Intent To File License Application, Filing of Pre-Application Document, Commencement of Licensing Proceeding, and Scoping; Request for Comments on the Pad and Scoping Document, and Identification of Issues and Associated Study Requests

May 5, 2008.

a. Type of Filing: Notice of Intent to File License Application for an Original License and Commencing Licensing Proceeding.

b. Project No.: 12966-001.

c. Dated Filed: March 3, 2008.

d. Submitted By: Utah Board of Natural Resources.

e. Name of Project: Lake Powell Hydroelectric System.

f. Location: On federal, state, and private lands in Kane, Washington and Iron counties, Utah; and in Coconino and Mohave counties, Arizona.

g. Filed Pursuant to: 18 CFR Part 5 of the Commission's Regulations.

h. Applicant Contact: Eric Millis, P.E., Utah Division of Water Resources, 1594 W. North Temple, P.O. Box 14620, Salt Lake City, UT 84118-6201, 801-538-7235.

i. FERC Contact: Jim Fargo at 202-502-6095 or e-mail at james.fargo@ferc.gov.

j. We are asking federal, state, local, and tribal agencies with jurisdiction and/or special expertise with respect to environmental issues to cooperate with us in the preparation of the environmental document. Agencies who would like to request cooperating status should follow the instructions for filing comments described in paragraph o below. Cooperating agencies should note the Commission's policy that agencies that cooperate in the preparation of the environmental document cannot also intervene. See, 94 FERC ¶ 61,076 (2001).

k. With this notice, we are initiating informal consultation with: (a) the U.S. Fish and Wildlife Service and/or NOAA Fisheries under section 7 of the Endangered Species Act and the joint agency regulations thereunder at 50 CFR, Part 402 and (b) the State Historic Preservation Officer, as required by Section 106, National Historic Preservation Act, and the implementing regulations of the Advisory Council on Historic Preservation at 36 CFR 800.2.

l. With this notice, we are designating the Utah Board of Water Resources as the Commission's non-federal representative for carrying out informal consultation, pursuant to Section 7 of the Endangered Species Act and Section 106 of the National Historic Preservation Act.

m. Utah Board of Water Resources filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filing and issuances related to this or other pending projects. For assistance, contact FERC Online Support.

o. With this notice, we are soliciting comments on the PAD and Scoping Document 1 (SD1), as well as study requests. All comments on the PAD and SD1, and study requests should be sent to the address above in paragraph h. In addition, all comments on the PAD and SD1, study requests, requests for cooperating agency status, and all communications to and from Commission staff related to the merits of the potential application (original and eight copies) must be filed with the Commission at the following address: Kimberly D. Bose, Secretary, Federal Energy Regulatory Commission, 888 First Street, NE., Washington, DC 20426. All filings with the Commission must include on the first page, the project name (Lake Powell Hydroelectric System) and number (P-12966-001), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by July 3, 2008.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

p. Our intent is to prepare an Environmental Impact Statement (EIS) for which the planned meetings will satisfy the NEPA scoping requirements.

Scoping Meetings

Commission staff will hold three scoping meetings in the vicinity of the project at the time and place noted below. We invite all interested individuals, organizations, and agencies to attend one or both of the meetings, and to assist staff in identifying particular study needs, as well as the scope of environmental issues to be addressed in the environmental document. The times and locations of these meetings are as follows:

Tuesday, June 10, 2008—5 p.m. to 9 p.m.—Kanab Middle School, 690 Cowboy Way, Kanab, Utah.

Wednesday, June 11, 2008—5 p.m. to 9 p.m.—Dixie Center, 1835 Convention Center Drive, St. George, Utah.

Thursday, June 12, 2008—5 p.m. to 9 p.m.—Festival Hall Conference Center, 105 North 100 East, Cedar City, Utah.

Scoping Document 1 (SD1), which outlines the subject areas to be addressed in the environmental document, was mailed to the individuals and entities on the Commission's mailing list. Copies of SD1 will be available at the scoping meetings, or may be viewed on the Web at http://www.ferc.gov, using the “eLibrary” link. Follow the directions for accessing information in paragraph n. Based on all oral and written comments, a Scoping Document 2 (SD2) will be issued. SD2 will include a revised process plan and schedule, as well as a list of issues, identified through the scoping process.

Site Visit

On June 9 and 10, 2008, Commission staff will visit the site of the proposed Lake Powell Pipeline. We will view the proposed pipeline route and possibly alternative routes that have been considered for the project. Staff will tour these proposed project areas by automobile and on foot. Representatives of the Utah Board of Natural Resources will accompany the Commission staff.

Interested parties may attend the site visit. Those planning to attend must provide their own transportation. If you are interested in attending the site visit, or would like more information about the visit, please contact Harold Sersland at (801) 310-0089. Those attending the site visit on Monday, June 9, should meet at 8 a.m. at the Sand Hollow Reservoir State Park entrance pay station (please bring your own food and water for the day). The plan on Monday is tour Sand Hollow Hydro Site 7 and Hurricane Cliffs Hydro Sites 5 and 6, and then follow the proposed pipeline route until south of the Kaibab Indian Reservation, ending at about 5 p.m.

Those taking the site visit on Tuesday, June 10, should meet at 8 a.m. at the BLM Interpretive Center in east Kanab on U.S. 89, (again please bring own food and water for the day). The trip will start near the proposed Hydro Site 2 and end at Glen Canyon National Recreation Area at Lake Powell around 2 p.m.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this document.

Meeting Procedures

The meetings will have a stenographer available to record participants' issues, which will become part of the formal record of the Commission proceeding on the project.

Kimberly D. Bose,
Secretary.

[FR Doc. E8-10456 Filed 5-9-08; 8:45 am]

BILLING CODE 6717-01-P